DEPARTMENT OF TRANSPORTATION

Federal Aviation Administration

14 CFR Part 71

[Docket No. FAA-2025-0174; Airspace Docket No. 25-ASW-1]

RIN 2120-AA66

Amendment of Jet Route J-96 in the Vicinity of Cimarron, NM

AGENCY: Federal Aviation Administration (FAA), DOT.

ACTION: Notice of proposed rulemaking (NPRM).

SUMMARY: This action proposes to remove a segment of Jet Route J-96 between the Cimarron, NM (CIM), Very High Frequency Omnidirectional Range (VOR)/Tactical Air Navigation (VORTAC) and the Garden City, KS (GCK), VORTAC navigational aids (NAVAID). The FAA is proposing this action due to the Cimarron VORTAC radials between 045° and 055°, stated in degrees magnetic (M) north, that make up the route segment east of Cimarron, NM, being unusable since 2020.

DATES: Comments must be received on or before March 24, 2025.

ADDRESSES: Send comments identified by FAA Docket No. FAA-2025-0174 and Airspace Docket No. 25-ASW-1 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

Jet Routes are published in paragraph 2004 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

The Cimarron, NM, VORTAC radials between 045°(M) and 055°(M), that support the route segment between the Cimarron and Garden City, KS, VORTACs, have been unusable since 2020. Water intrusion has created issues with the underground equipment and structures supporting the Cimarron VORTAC, resulting in the outage of radials that emanate from the VORTAC. A Flight Data Center (FDC) Notice to Air Missions (NOTAM) has been published since 2020 identifying the unusable Cimarron VORTAC radials impacting the J-96 segment between the Cimarron VORTAC and Garden City VORTAC.

The FAA has attempted to restore the unusable Cimarron VORTAC radials, as recent as August 2024, with no success. The physical location of the equipment is challenging for the FAA technicians conducting repairs to access because there are large rocks in proximity to the equipment that makes site excavation difficult. Further, the FAA estimated the cost to “dopplerize” the VOR to sufficiently restore the unusable radials at three million dollars. Since most aircraft operating in the Class A airspace altitude stratum are Area Navigation (RNAV) equipped and the J-96 route segment between the Cimarron and Garden City VORTACs has been unusable since 2020, the FAA believes removing the affected route segment would not adversely impact users.

As a result of the proposed amendment to J-96, the jet route would have a gap between the Cimarron and Garden City VORTACs. To address the gap between the Cimarron and Garden City VORTACs, instrument flight rules (IFR) traffic could use adjacent Jet Routes J-18 and J-110 or request air traffic control radar vectors to fly around or through the affected area. Additionally, IFR pilots with RNAV-equipped aircraft could also navigate point-to-point using the existing fixes that will remain in place to support continued operations through the affected area.

The Proposal

The FAA is proposing an amendment to 14 CFR part 71 by amending Jet Route J-96 due to the Cimarron VORTAC radials between 045°(M) and 055°(M), that support the route segment between the Cimarron, NM, and Garden City, KS, VORTACs being unusable since 2020. The proposed jet route action is described below.

J-96: J-96 currently extends between the Los Angeles, CA, VORTAC and the Joliet, IL, VOR/Distance Measuring Equipment (VOR/DME). The FAA proposes to remove the airway segment between the Cimarron, NM, VORTAC and the Garden City, KS, VORTAC. As amended, the airway would be changed to extend between the Los Angeles VORTAC and the Cimarron VORTAC and between the Garden City VORTAC and the Joliet VOR/DME.

The NAVAID radials listed in the J-96 airway description in the regulatory text of this notice of proposed rulemaking are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 2004 Jet Routes.

* * * * *

J-96 [Amended]

From Los Angeles, CA; Paradise, CA; INT Paradise 093° and Parker, CA, 261° radials; Parker; Drake, AZ; Gallup, NM; to Cimarron, NM. From Garden City, KS; Salina, KS; Kirksville, MO; Peoria, IL; to Joliet, IL.

* * * * *

Issued in Washington, DC, on January 31, 2025.
Brian Eric Konie,
Manager (A), Rules and Regulations Group.

[FR Doc. 2025-02281 Filed 2-5-25; 8:45 am]

BILLING CODE 4910-13-P